DEPARTMENT OF VETERANS AFFAIRS

Advisory Committee on Disability Compensation, Notice of Meeting

The Department of Veterans Affairs (VA) gives notice under Public Law 92-463 (Federal Advisory Committee Act) that the Advisory Committee on Disability Compensation will meet on April 23-24, 2012, at the St. Regis Hotel, 923 16th and K Streets NW., Washington, DC. The sessions will begin at 8:30 a.m. and end at 4 p.m. each day. The meeting is open to the public.

The purpose of the Committee is to advise the Secretary of Veterans Affairs on the maintenance and periodic readjustment of the VA Schedule for Rating Disabilities. The Committee is to assemble and review relevant information relating to the nature and character of disabilities arising from service in the Armed Forces, provide an ongoing assessment of the effectiveness of the rating schedule, and give advice on the most appropriate means of responding to the needs of Veterans relating to disability compensation.

On April 23, the Committee will receive briefings on The Veterans Writing Project: An Alternative Approach to Helping Veterans Overcome Post Traumatic Stress Disorder Symptoms; improving VA's outreach to younger Operation Iraqi Freedom and Operation Enduring Freedom Veterans; protecting Veterans educational benefits; developing social networks and information technology to reduce deaths among homeless Veterans; and improving pain, functioning and mental health to prevent suicidality among Veteran patients. On April 24, the Committee will receive briefings on policies on disability ratings for presumptive conditions and Veterans law school clinics: teaching administrative law to future attorneys. The Committee will also discuss possible issues to address in the Committee's 2012 report.

Time will be allocated for receiving public comments at 3 p.m. on April 23 and at noon on April 24. Public comments will be limited to three minutes each. Individuals wishing to make oral statements before the Committee will be accommodated on a first-come, first-served basis. Individuals who speak are invited to submit 1-2 page summaries of their comments at the time of the meeting for inclusion in the official meeting record.

The public may submit written statements for the Committee's review to Robert Watkins, Designated Federal Officer, Department of Veterans Affairs, Veterans Benefits Administration, Compensation Service, Regulation Staff (211D), 810 Vermont Avenue NW., Washington, DC 20420; or email at Robert.Watkins2@va.gov. Any member of the public wishing to attend the meeting or seeking additional information should contact Mr. Watkins at (202) 461-9214.

Dated: April 12, 2012.
By direction of the Secretary.
Vivian Drake,
Committee Management Officer.

[FR Doc. 2012-9281 Filed 4-17-12; 8:45 am]

BILLING CODE P